DEPARTMENT OF THE INTERIOR

National Park Service

Giacomini Wetlands Restoration Point Reyes National Seashore, Marin County, California; Notice of Intent To Prepare an Environmental Impact Statement

SUMMARY: The National Park Service, in accordance with the provisions of the National Environmental Policy Act (42 U.S.C. 4321 et seq.), is undertaking a conservation planning and environmental impact analysis process for a proposed wetlands restoration project at the former Giacomini Ranch in Marin County, California. The area of proposed restoration is located within the boundary of the Golden Gate National Recreation Area; this portion of the Golden Gate National Recreation Area is administered by Point Reyes National Seashore. Notice is hearby given that a public scoping process has been initiated with the purpose of eliciting public comment regarding the spectrum of issues and concerns (including suitable range of alternatives, the nature and extent of potential environmental impacts, appropriate mitigation strategies, and ecological benefits) that should be addressed in drafting the forthcoming environmental document.

Background

The Golden Gate National Recreation Area (GGNRA) is a unit of the National Park System located in the San Francisco Bay Area, in central California. Congress established GGNRA “in order to preserve for public use and enjoyment certain areas of Marin and San Francisco Counties, California, possessing outstanding natural, historic, scenic, and recreational values, and in order to provide for the maintenance of needed recreational open space necessary to urban environment and planning * * * (Public Law 92-589).” Point Reyes National Seashore, a nearby unit of the National Park System, is wholly located in Marin County, California. It was established by Congress “to save and preserve, for the purpose of public recreation, benefit, and inspiration, a portion of the diminishing seashore of the United States that remains undeveloped” (Public Law 87-657). By prior management agreement, Point Reyes National Seashore administers the north district of GGNRA within Marin County.

In certain instances, the National Park Service (NPS) has expanded upon the concept of “preservation” to incorporate restoration, as well as conservation. In its 2001 Management Policies, the NPS emphasized that it will “* * * strive to achieve a longer term goal of net gain of wetlands across the national park system through restoration of previously degraded or destroyed wetlands (§ 4.6.5).” Furthermore, the new Policies encourage units of the National Park System to “* * * protect, preserve, and restore the natural resources and functions of floodplains (§ 4.6.4).”

In keeping with these resource conservation policies, the NPS proposes to restore wetlands at a 563-acre historic coastal salt marsh site formerly known as the Giacomini Ranch in Tomales Bay. Tomales Bay is a 12-mile-long coastal bay that borders Point Reyes National Seashore to the north. This area of coastal salt marsh was diked in 1946, and these lands had been utilized by the Waldo Giacomini family as a dairy since then. In 2000, the NPS purchased the Giacomini property using a combination of federal and state funds. State funding was provided by the California Department of Transportation (Caltrans), which was under obligation to the California Coastal Commission to mitigate for impacts resulting from road repairs on Highway 1 in Marin County conducted in the early 1990s. The California Coastal Commission permitted Caltrans to mitigate for the road repair impacts through transfer of funds to the NPS to purchase, restore, and manage a wetland site at the Giacomini Ranch.

The NPS believes that the potential value of restoring the Giacomini Ranch would be important not only for these national park lands and resources, but to the Tomales Bay watershed ecosystem as a whole. By some accounts, the state of California has suffered the loss of more than 95 percent of its coastal wetlands. The percentage of loss is not quite as high in Tomales Bay, but a large percentage of the coastal wetlands once present were lost when this deltaic land at the head of the bay was reclaimed for agricultural purposes. Coastal wetlands provide essential ecosystem functions benefiting both humans and wildlife through floodwater storage, food production, and filtration of nutrients and sediments. Increasing the acreage of coastal wetlands could increase wetland functions and result in improved environmental conditions for both humans and wildlife in the Tomales Bay watershed. The San Francisco District of the Regional Water Quality Control Board has determined that Tomales Bay is impaired by sediment, nutrients, fecal coliform, and mercury (pursuant to § 303(d) of the Clean Water Act). This condition jeopardizes not only the bay's well-known oyster fisheries, but the wildlife species that use Tomales Bay for breeding or foraging habitat such as Pacific harbor seals, seal lions, gray whales, California brown pelican, and Pacific herring.

Alternatives and Environmental Issues

Point Reyes National Seashore is in the initial stages of the conservation planning process for this initiative, and the park desires public input on a suitable range of alternatives. It is anticipated that methods for restoring the Giacomini wetlands area would likely involve some type of geomorphic-topographic alterations aimed at recovering natural hydrologic and ecological processes. These potential alterations could change the current hydrologic regime within the proposed project area, leading either to muted tidal action, full tidal action, and/or natural creek action (i.e., allowing creeks to meander naturally). A “no-action” alternative, entailing no changes in current hydrologic regime, will also be assessed. Restoration actions undertaken as part of the initiative would be designed to ensure that flood risks to adjacent private residences and property will not be aggravated beyond current conditions. As part of the alternatives development, the NPS will also explore the potential for both land- and water-based recreational opportunities (but which do not conflict with Tomales Bay ecosystem processes).

The possible larger-scale issues or concerns associated with the proposed restoration project include potential impacts (both positive and negative) to threatened or endangered species protected under the federal Endangered Species Act; potential impacts to soils designated as Farmland of Statewide and Local Importance; change in land use; opportunities for and constraints on public access; and potential effects (both positive and negative) on flooding and saltwater intrusion into local groundwater supplies, including Point Reyes Station, stemming from implementing restoration actions.

Scoping/Comment Process

As noted, the NPS will undertake a conservation planning and environmental impact analysis process to address issues and identify alternatives for the Giacomini Wetlands Restoration Project. Federal, state, and local agencies, affected individuals, and interested organizations and groups are encouraged to participate in the scoping process. The level of California state or local involvement in the environmental impact analysis process is also yet to be determined. If an environmental document is required under the California Environmental Quality Act (CEQA), the NPS will coordinate the NEPA-CEQA public involvement and analysis process with the designated local lead agency (or agencies) responsible for fulfilling requirements under CEQA.

A key opportunity during the scoping phase will be a public meeting to be held on October 19, 2002. For those persons unable to attend the meeting, a scoping document will be available through the Seashore. At this time, primary topics expected to be addressed at the public meeting include: background information on the purpose and need for restoring the wetlands; local issues and concerns (i.e., opportunities and constraints) in developing the restoration project; potential alternative courses of action with regards to restoration; potential impacts of these courses of action; and appropriate strategies for mitigation and monitoring, if needed. All interested individuals, organizations, and agencies are encouraged to provide comments or suggestions. Written comments regarding the Giacomini Wetland Restoration Project must be postmarked not later than 45 days following publication of this notice in the Federal Register. As soon as this date has been determined, it will be announced on the park website (noted below). To provide comments or information pertinent to the proposal, inquire about the public meeting, or to request a copy of the scoping document, please contact the Superintendent, Point Reyes National Seashore, Attn: Giacomini Wetlands Restoration Project, Point Reyes Station, CA 94956 (Telephone (415) 464-5102; FAX (415) 663-8132; E-mail: ann_nelson@nps.gov). Duplicate informational updates are to be regularly posted on the Point Reyes National Seashore Web site http://www.nps.gov/pore/home_mngmntdocs.htm, as well as the GGNRA Web site http://www.nps.gov/goga/admin/planning/index.htm.

If individuals submitting comments request that their name or\and address be withheld from public disclosure, it will be honored to the extent allowable by law. Such requests must be stated prominently in the beginning of the comments. There also may be circumstances wherein the NPS will withhold a respondent's identity as allowable by law. As always: the NPS will make available for public inspection all submissions from organizations or businesses and from persons identifying themselves as representatives or officials of organizations and businesses; and, anonymous comments may not be considered.

Decision

At this time, the draft EIS is expected to be available for public review in winter 2003/2004; and the final environmental document will be completed in winter 2004/2005. As a delegated EIS, the official responsible for the final decision is the Regional Director, Pacific West Region. Subsequently the Superintendent, Point Reyes National Seashore, would be responsible for implementing the approved restoration and management actions.

Dated: August 20, 2002.
Arthur E. Eck,
Acting Regional Director, Pacific West Region.

[FR Doc. 02-24065 Filed 9-20-02; 8:45 am]

BILLING CODE 4310-70-P